DEPARTMENT OF ENERGY

Office of Arms Control and Nonproliferation; Proposed Subsequent Arrangement

AGENCY: Office of Arms Control and Nonproliferation, Department of Energy.

ACTION: Subsequent arrangement.

SUMMARY: This notice is being issued under the authority of Section 131 of the Atomic Energy Act of 1954, as amended (42 U.S.C. 2160). The Department is providing notice of a proposed “subsequent arrangement” under Article 6 paragraph 2 of the Agreement for Cooperation Between the Government of the United States of America and the Government of the Argentine Republic Concerning Peaceful Uses of Nuclear Energy.

This subsequent arrangement concerns the alteration in form or content of irradiated LEU research reactor fuel elements and isotope production targets for the purpose of post-irradiation examination (PIE) as part of a cooperative research and development program between the Argentina Nuclear Energy Commission (CNEA) and the U.S. Department of Energy's Argonne National Laboratory (ANL). The PIE will involve less than one kilogram of uranium-235 and will be conducted by CNEA and ANL personnel in specified hot cells and laboratory facilities under IAEA safeguards at CNEA's Ezeiza Atomic Center near Buenos Aires.

In accordance with Section 131 of the Atomic Energy Act of 1954, as amended, we have determined that this subsequent arrangement will not be inimical to the common defense and security.

This subsequent arrangement will take effect no sooner than fifteen days after the date of publication of this notice.

For the Department of Energy.
Trisha Dedik,
Director, Office of International Policy and Analysis for Arms Control and Nonproliferation, Office of Defense Nuclear Nonproliferation.

[FR Doc. 00-24905 Filed 9-27-00; 8:45 am]

BILLING CODE 6450-01-P